DEPARTMENT OF DEFENSE

Office of the Secretary

[Docket ID: DOD-2010-OS-0028]

Privacy Act of 1974; System of Records

AGENCY: Office of the Secretary, DoD.

ACTION: Notice to add a system of records.

SUMMARY: The Office of the Secretary of Defense proposes to add a system of records to its inventory of record systems subject to the Privacy Act of 1974 (5 U.S.C. 552a), as amended.

DATES: This proposed action would be effective without further notice on April 19, 2010 unless comments are received which result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard at (703) 588-6830.

SUPPLEMENTARY INFORMATION: The Office of the Secretary of Defense notices for systems of records subject to the Privacy Act of 1974 (5 U.S.C. 552a), as amended, have been published in the Federal Register and are available from the Chief, OSD/JS Privacy Office, Freedom of Information Directorate, Washington Headquarters Services, 1155 Defense Pentagon, Washington DC 20301-1155.

The proposed system report, as required by 5 U.S.C. 552a(r) of the Privacy Act of 1974, as amended, was submitted on March 4, 2010 to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996; 61 FR 6427).

Dated: March 15, 2010.
Mitchell S. Bryman,
Alternate OSD Federal Register Liaison Officer, Department of Defense.

DWHS D02

SYSTEM NAME:

PEGASYS CARDKEY.

SYSTEM LOCATION:

Washington Headquarters Services, Defense Facilities Directorate, Federal Facilities Division, Pentagon Building Management Office, Building Operations Command Center, 1155 Defense Pentagon 1B349, Washington, DC 20301-1155.

CATEGORIES OF INDIVIDUALS COVERED BY THE SYSTEM:

DoD military, civilian employees, and contractors who require room access to Pentagon space under the control of Pentagon Building Management Office and Building Operations Command Center for Wedge 1 Corridors 3 and 4.

CATEGORIES OF RECORDS IN THE SYSTEM:

Name, Social Security Number (SSN) and sponsoring DoD office.

AUTHORITY FOR MAINTENANCE OF THE SYSTEM:

10 U.S.C. 113, Secretary of Defense; DoD Directive 5110.4, Washington Headquarters Services (WHS); and E.O. 9397, (SSN) as amended.

PURPOSE(S):

This system maintains a listing of individuals who have been granted room entry access to areas of the Pentagon under the control of Washington Headquarters Services/Defense Facilities Directorate/Federal Facilities Division.

ROUTINE USES OF RECORDS MAINTAINED IN THE SYSTEM, INCLUDING CATEGORIES OF USERS AND THE PURPOSES OF SUCH USES:

In addition to those disclosures generally permitted under 5 U.S.C. 552a(b) of the Privacy Act of 1974, these records may specifically be disclosed outside the DoD as a routine use pursuant to 5 U.S.C. 552a(b)(3) as follows:

The DoD `Blanket Routine Uses' set forth at the beginning of the Office of the Secretary of Defense's compilation of systems of records notices apply to this system.

POLICIES AND PRACTICES FOR STORING, RETRIEVING, ACCESSING, RETAINING, AND DISPOSING OF RECORDS IN THE SYSTEM:

STORAGE:

Electronic storage media.

RETRIEVABILITY:

By individual's name and Social Security Number (SSN).

SAFEGUARDS:

Records are maintained in a secure and limited access area. Access is password protected and is limited to those individuals who require access to the records to perform their official assigned duties. Physical entry by unauthorized persons is restricted through the use of locks and Pentagon Force Protection Agency (PFPA) card swipe system.

RETENTION AND DISPOSAL:

Disposition pending. Until the National Archives and Records Administration approve the retention and disposal of these records, treat them as permanent.

SYSTEM MANAGER(S) AND ADDRESS:

Facility Manager, Washington Headquarters Service, Defense Facilities Directorate, Federal Facilities Division, Pentagon Building Management Office, Building Operations Command Center, 1155 Defense Pentagon, Washington, DC 20301-1155.

NOTIFICATION PROCEDURE:

Individuals seeking to determine whether information about themselves is contained in this system should address written inquiries to Facility Manager, Washington Headquarters Service, Defense Facilities Directorate, Federal Facilities Division, Pentagon Building Management Office, Building Operations Command Center, 1155 Defense Pentagon, Washington, DC 20301-1155.

Written requests should contain the full name and Social Security Number (SSN) of the individual.

RECORD ACCESS PROCEDURES:

Individuals seeking access to information about themselves contained in this system should address written inquiries to the Office of the Secretary of Defense/Joint Staff Freedom of Information Act Requester Service Center, Office of Freedom of Information, Washington Headquarters Services, 1155 Defense Pentagon, Washington DC 20301-1155.

Written requests should contain the full name and Social Security Number (SSN) of the individual and be signed as well as the name and number of this system of records notice so that your request can be tasked to the appropriate office.

CONTESTING RECORD PROCEDURES:

The Office of the Secretary of Defense rules for accessing records, for contesting contents and appealing initial agency determinations are published in Office of the Secretary of Defense Administrative Instruction 81; 32 CFR part 311; or may be obtained from the system manager.

RECORD SOURCE CATEGORIES:

The individual.

EXEMPTIONS CLAIMED FOR THE SYSTEM:

None.

[FR Doc. 2010-5955 Filed 3-17-10; 8:45 am]

BILLING CODE 5001-06-P